DEPARTMENT OF THE INTERIOR

Bureau of Ocean Energy Management

[MMAA104000; OMB Control Number 1010-0048; Docket ID: BOEM-2017-0016]

Agency Information Collection Activities; Geological and Geophysical (G&G) Explorations of the Outer Continental Shelf

AGENCY: Bureau of Ocean Energy Management, Interior.

ACTION: Notice of information collection; request for comment.

SUMMARY: In accordance with the Paperwork Reduction Act of 1995, the Bureau of Ocean Energy Management (BOEM) is proposing to renew an information collection.

DATES: Interested persons are invited to submit comments on or before October 30, 2017.

ADDRESSES: Send your comments on the information collection request (ICR) by mail to the BOEM Information Collection Clearance Officer, Anna Atkinson, Bureau of Ocean Energy Management, 45600 Woodland Road, VAM-DIR, Sterling, Virginia 20166; or by email to anna.atkinson@boem.gov. Please reference Office of Management and Budget (OMB) Control Number 1010-0048 in the subject line of your comments.

FOR FURTHER INFORMATION CONTACT: To request additional information about this ICR, contact Anna Atkinson by email, or by telephone at 703-787-1025.

SUPPLEMENTARY INFORMATION: We, BOEM, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of BOEM? (2) will this information be processed and used in a timely manner? (3) is the estimate of burden accurate? (4) how might BOEM enhance the quality, utility, and clarity of the information to be collected? and (5) how might BOEM minimize the burden of this collection on the respondents, including through the use of information technology?

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Title of Collection: 30 CFR 551, Geological and Geophysical (G&G) Explorations of the Outer Continental Shelf.

OMB Control Number: 1010-0048.

Form Number: BOEM-0327, Application for Permit to Conduct Geological or Geophysical Exploration for Mineral Resources of Scientific Research on the Outer Continental Shelf.

Type of Review: Extension of a currently approved collection.

Respondents/Affected Public: Potential respondents comprise Federal OCS oil, gas, and sulphur permittees or notice filers.

Total Estimated Number of Annual Responses: 707 responses.

Total Estimated Number of Annual Burden Hours: 40,954 hours.

Respondent's Obligation: Mandatory.

Frequency of Collection: On occasion, annual, or as specified in permits.

Total Estimated Annual Nonhour Burden Cost: $175,044.

Abstract: The Outer Continental Shelf (OCS) Lands Act, as amended (43 U.S.C. 1331 et seq. and 43 U.S.C. 1801 et seq.), authorizes the Secretary of the Interior to prescribe rules and regulations to administer leasing of mineral resources on the OCS. The OCS Lands Act (43 U.S.C. 1340) states that “any person authorized by the Secretary may conduct geological and geophysical explorations in the [O]uter Continental Shelf, which do not interfere with or endanger actual operations under any lease maintained or granted pursuant to this subchapter, and which are not unduly harmful to aquatic life in such area.” The section further provides that permits to conduct such activities may only be issued if it is determined that the applicant is qualified; the activities do not result in pollution or create hazardous or unsafe conditions; the activities do not unreasonably interfere with other uses of the area or disturb any site, structure, or object of historical or archaeological significance. Applicants for permits are required to submit form BOEM-0327—Application for Permit to Conduct Geological or Geophysical Exploration for Mineral Resources of Scientific Research on the Outer Continental Shelf, to provide the information necessary to evaluate their qualifications, and upon approval, respondents are issued a permit.

The Independent Offices Appropriations Act (31 U.S.C. 9701), the Omnibus Appropriations Bill (Pub. L. 104-133, 110 Stat. 1321, April 26, 1996), and OMB Circular A-25 authorize Federal agencies to recover the full cost of services that confer special benefits. All G&G permits are subject to cost recovery, and BOEM regulations specify service fees for these requests.

Regulations to carry out these responsibilities are contained in 30 CFR part 551 and are the subject of this information collection renewal. BOEM uses the information to:

• Identify oil, gas, sulfur, and mineral resources in the OCS;

• ensure the receipt of fair value for mineral resources;

• ensure that the exploration activities do not cause harm to the environment or persons, or create unsafe operations and conditions, damage historical or archaeological sites, or interference with other uses;

• analyze and evaluate preliminary or planned drilling activities;

• monitor progress and activities in the OCS;

• acquire G&G data and information collected under a Federal permit offshore; and

• determine eligibility for reimbursement from the government for certain costs.

BOEM uses information collected to understand the G&G characteristics of oil- and gas-bearing physiographic regions of the OCS. The information aids the Secretary in obtaining a proper balance among the potential for environmental damage, the discovery of oil and gas, and associated impacts on affected coastal States.

In this renewal, BOEM is renewing form BOEM-0327—Application for Permit to Conduct Geological or Geophysical Exploration for Mineral Resources of Scientific Research on the Outer Continental Shelf. This form consists of the requirements for G&G activities requiring Permits and Notices, along with the application that the respondent submits to BOEM for approval, as well as a nonexclusive use agreement for scientific research, if applicable. The requirements portion of the form lets the respondents know the authority, requirements, along with other relevant information for the permit.

Upon BOEM approval of the application, respondents are issued a permit using form BOEM-0328, Permit to Conduct Geophysical Exploration for Mineral Resources of Scientific Research on the Outer Continental Shelf, for conducting geophysical exploration for mineral resources or scientific research, or form BOEM-0329, Permit to Conduct Geological Exploration for Mineral Resources of Scientific Research on the Outer Continental Shelf, for conducting geological exploration for mineral resources or scientific research. These permits are filled in by BOEM and do not incur a respondent hour burden.

We protect proprietary information in accordance with the Freedom of Information Act (5 U.S.C. 552) and the Department of the Interior's implementing regulations (43 CFR part 2), and under regulations at 30 CFR part 551.

We estimate the burden for this collection to be about 40,954 hours, and the non-hour burden costs to be $175,044. The following table details the individual components and respective hour burden estimates of this ICR.

Burden Table
Citation 30 CFR 551 | Reporting and recordkeeping requirement | Hour burden | Average number of annual responses | Annual burden hours
| Non-Hour Cost Burdens *
30 CFR 551.1 through 551.6
551.4(a), (b); 551.5(a), (b), (d); 551.6; 551.7 | Apply for permits (form BOEM-0327) to conduct G&G exploration, including deep stratigraphic tests/revisions when necessary. Submit required information in manner specified | 1,000 AK* * | 4 Applications | 4,000
|  | 1,000 ATL* * | 9 Applications | 9,000
|  | 300 GOM | 74 Applications | 22,200
|  |  | 87 Applications × $2,012 = $175,044
551.4(b); 551.5(c), (d); 551.6 | File notices to conduct scientific research activities, including notice to BOEM prior to beginning and after concluding activities | 1 | 1 Notice | 1
551.6(b) 551.7(b)(5) | Notify BOEM if specific actions occur; report archaeological resources (no instances reported since 1982). Consult with other users | 1 | 1 Notice | 1
Subtotal |  |  | 89 Responses | 35,202 Hours
|  |  | $175,044 Non-Hour Cost Burden
30 CFR 551.7 through 551.9
551.7; 551.8 | Submit APD and Supplemental APD to BSEE | Burden included under BSEE regulations at 30 CFR 250, Subpart D (1014-0018) |  | 0
551.7; 551.8(b) | Submit information on test drilling activities under a permit, including required information and plan revisions (e.g., drilling plan and environmental report) | 1 | 1 Submission | 1
551.7(c) | Enter into agreement for group participation in test drilling, including publishing summary statement; provide BOEM copy of notice/list of participants (no agreements submitted since 1989) | 1 | 1 Agreement | 1
551.7(d) | Submit bond(s) on deep stratigraphic test and required securities | Burden included under 30 CFR Part 556 (1010-0006) |  | 0
551.8(a) | Request reimbursement for certain costs associated with BOEM inspections (no requests in many years) | 1 | 1 Request | 1
551.8(b), (c) | Submit modifications to permits, and status/final reports on, activities conducted under a permit | 38 AK* * | 4 Respondents × 10 Reports = 40 | 1,520
|  | 38 ATL* * | 9 Respondents × 10 Reports = 90 | 3,420
|  | 2 GOM | 55 Respondents × 3 Reports = 165 | 330
551.9(c) | Notify BOEM to relinquish a permit | 1/2 | 2 Notices | 1
Subtotal |  |  | 300 Responses | 5,274
30 CFR 551.10 through 551.13
551.10(c) | File appeals | Exempt under 5 CFR 1320.4(a)(2), (c). |  | 0
551.11; 551.12 | Notify BOEM and submit G&G data and/or information collected and/or processed by permittees, bidders, or 3rd parties, etc., including reports, logs or charts, results, analyses, descriptions, information as required, and agreements, in manner specified | 4 | 40 Submissions | 160
551.13 | Request reimbursement for certain costs associated with reproducing data/information | 2 | 40 Submissions | 80
Subtotal |  |  | 80 Responses | 240
30 CFR 551.14
551.14(a), (b) | Submit comments on BOEM intent to disclose data and/or information to the public | 1 | 2 Comments | 2
551.14(c)(2) | Submit comments on BOEM intent to disclose data and/or information to an independent contractor/agent | 1 | 2 Comments | 2
551.14(c)(4) | Contractor/agent submits written commitment not to sell, trade, license, or disclose data and/or information without BOEM consent | 1 | 2 Commitments | 2
551.1-551.14 | General departure and alternative compliance requests not specifically covered elsewhere in part 551 regulations | 1 | 2 Requests | 2
Subtotal |  |  | 8 Responses | 8
Extension for Permit Form & Recordkeeping
551.14(b) (BOEM-0327) | Request extension of permit time period; enter agreements | 1 | 100 Extensions | 100
| Retain G&G data/information for 10 years and make available to BOEM upon request | 1 | 130 Recordkeepers | 130
Subtotal |  |  | 230 Responses | 230
Total Burden |  |  | 707 Responses | 40,954 Hours
|  |  | $175,044 Non-Hour Cost Burden
* Fees are subject to modification per inflation annually.
** Burden hours for the frontier areas of the Alaska Region and Atlantic OCS are significantly higher because of NEPA and mitigation requirements. BOEM is accounting for the total time to compile/submit the necessary information to obtain the required authorizations to acquire a BOEM permit. There are currently no such activities ongoing in the Pacific OCS Region.

The authorities for this action are the OCS Lands Act, as amended (43 U.S.C. 1331 et seq. and 43 U.S.C. 1801 et seq.), the Clean Air Act (42 U.S.C. 7401 et seq.), and the Paperwork Reduction Act of 1995 (44 U.S.C. 3501 et seq.).

Dated: August 25, 2017.
Deanna Meyer-Pietruszka,
Chief, Office of Policy, Regulations, and Analysis.

[FR Doc. 2017-18458 Filed 8-30-17; 8:45 am]

BILLING CODE 4310-MR-P